DEPARTMENT OF THE INTERIOR

National Park Service

[NPS-WASO-NRNHL-0112-9383; 2200-3200-665]

National Register of Historic Places; Notification of Pending Nominations and Related Actions

Nominations for the following properties being considered for listing or related actions in the National Register were received by the National Park Service before January 21, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington DC 20005; or by fax, 202-371-6447. Written or faxed comments should be submitted by March 7, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ALASKA

Anchorage Borough-Census Area

Fort Richardson National Cemetery, Bldg. 58-512, Davis Hwy., Fort Richardson, 12000056

Sitka Borough-Census Area

Sitka National Cemetery, 803 Sawmill Creek Rd., Sitka, 12000057

HAWAII

Honolulu County

Withington House, 3150 Huelani Pl., Honolulu, 12000058

ILLINOIS

Lee County

Dixon Downtown Historic District, Roughly bounded by River St., Dixon Ave., 3rd St., & Monroe Ave., Dixon, 12000059

Marion County

Centralia Commercial Historic District, 126 W. Broadway to 331 E. Broadway, Centralia, 12000060

McHenry County

Plum Tree Farm, 1001 Plum Tree Rd., Barrington Hills, 12000061

Whiteside County

Fulton Commercial Historic District, 4th St. between 10th & 12th Aves., Fulton, 12000062

IOWA

Polk County

Sherman Hill Historic District (Boundary Increase and Decrease), Generally between 15th St., Woodland Ave., MLK Pkwy., & I-235, Des Moines, 12000063

KANSAS

Sedgwick County

Kansas Gas & Electric Company Building, 120 E. 1st St., Wichita, 12000064

MAINE

Cumberland County

Children's Hospital, 68 High St., Portland, 12000065

Portland Waterfront (Boundary Increase), Merrill's Wharf, 252-260 Commercial St., Portland, 12000066

MASSACHUSETTS

Essex County

LAMARTINE (shipwreck), (Granite Vessel Shipwrecks in the Stellwagen Bank NMS MPS) Address Restricted, Gloucester, 12000067

Hampden County

Outing Park Historic District, Roughly bounded by Saratoga, Niagara, Oswego, & Bayoone Sts., Springfield, 12000068

Suffolk County

Revere City Hall and Police Station, 281 Broadway & 23 Pleasant St., Revere, 12000070

MINNESOTA

Winona County

Central Grade School, 317 Market St., Winona, 12000071

Jefferson School, (Federal Relief Construction in Minnesota MPS) 1268 W. 5th St., Winona, 12000072

Madison School, 515 W. Wabasha St., Winona, 12000073

Washington—Kosciusko School, (Federal Relief Construction in Minnesota MPS AD) 365 Mankato Ave., Winona, 12000074

NEBRASKA

Lincoln County

Fort McPherson National Cemetery, 12004 S. Spur 56A, Maxwell, 12000075

NEW JERSEY

Monmouth County

Camp Evans Historic District (Boundary Increase and Decrease), 2201 Marconi Rd. (Wall Township), New Bedford, 12000076

White, Robert, House, 20 South St., Red Bank, 12000077

OREGON

Columbia County

Clatskanie IOOF Hall, 75 S. Nehalem St., Clatskanie, 12000078

Douglas County

Oregon State Soldier's Home Hospital, 1624 W. Harvard Ave., Roseburg, 12000079

Jackson County

Talent Elementary School, 206 Main St., Talent, 12000080

Lane County

Cottage Grove Armory, 628 E. Washington Ave., Cottage Grove, 12000081

Lincoln County

Depoe Bay Ocean Wayside, 119 SW US 101, Depoe Bay, 12000082

Wallowa County

Enterprise IOOF Hall, (Downtown Enterprise MPS) 105 NE 1st St., Enterprise, 12000083

Enterprise Mercantile and Milling Company Building, Downtown Enterprise MPS) 115 E. Main St., Enterprise, 12000084

O.K. Theatre, (Downtown Enterprise MPS) 208 W. Main St., Enterprise, 12000085

SOUTH DAKOTA

Clay County

Forest Avenue Historic District (Boundary Increase), 15-322 Forest Ave., 205-221 Lewis St., Vermillion, 12000086

WASHINGTON

Pierce County

Curran, Charles and Mary Louise, House, 4009 Curran Ln., University Place, 12000088

Whatcom County

Axtell, Dr. William H. and Frances C., House, 413 E. Maple St., Bellingham, 12000087

In the interest of preservation a three day comment period is requested for the following resource:

MASSACHUSETTS

Suffolk County

Fenway Park, 24, & 2-4 Yawkey Wy., 64-76 Brookline Ave., & 70-80 Lansdowne St., Boston, 12000069

[FR Doc. 2012-3833 Filed 2-17-12; 8:45 am]

BILLING CODE 4312-51-P